DEPARTMENT OF TRANSPORTATION

Federal Highway Administration

Environmental Impact Statement: Amador County, California

AGENCY: Federal Highway Administration (FHWA), DOT.

ACTION: Notice of withdrawal.

SUMMARY: The FHWA is issuing this notice to advise the public that (1) the Notice of Intent, issued on October 22, 1998, to prepare an Environmental Impact Statement (EIS) for the proposed highway project on State Route (SR) 49 in Amador County, California will be withdrawn; and (2) an Environmental Assessment (EA) in lieu of an EIS is being prepared for the proposed highway project.

FOR FURTHER INFORMATION CONTACT: Mr. Glenn Clinton, Team Leader, Project Delivery Team-North, Federal Highway Administration, California Division, 980 9th Street, Suite 400, Sacramento, California 95814-2724, Telephone: (916) 498-5020.

SUPPLEMENTARY INFORMATION: The FHWA, in cooperation with the California Department of Transportation (Caltrans), conducted studies of the potential environmental impacts associated with the proposed highway project to bypass Sutter Creek and Amador Cities on SR 49 in Amador County, California. During the course of conducting these studies and coordinating with regulatory and resource agencies, it was found that many of the potential environmental issues that led to issuing the Notice of Intent were not significant. In addition, changes to avoid to minimize potential impacts identified in early scoping have been made to the designs. The FHWA has determined that the proposed project is not likely to result in significant impacts to the environment; that an EA would be an appropriate environmental document for the project; and that the Notice of Intent (issued on October 22, 1998, and available on the Federal Register of November 2, 1998) should be withdrawn.

The EA will be available for public inspection prior to the public hearing. Comments or questions concerning this proposed action and the determination an EA is the proper environmental document should be directed to the FHWA at the address provided above.

(Catalog of Federal Domestic Assistance Program Number 20.205, Highway Research Planning and Construction. The regulations implementing Executive Order 12372 regarding intergovernmental consultation on federal programs and activities apply to this program.)

Issued on; August 9, 2000.
Glenn Clinton,
Team Leader, Project Delivery Team—North Sacramento, California.

[FR Doc. 00-21537 Filed 8-22-00; 8:45 am]

BILLING CODE 4910-13-M